DEPARTMENT OF THE INTERIOR

Bureau of Land Management

[21X.LLAZ921000.L14400000.BJ0000.LXSSA2250000.241A]

Notice of Filing of Plats of Survey; Arizona

AGENCY: Bureau of Land Management, Interior.

ACTION: Notice of official filing.

SUMMARY: The plats of survey of the following described lands are scheduled to be officially filed 30 days after the date of this publication in the Bureau of Land Management (BLM), Arizona State Office, Phoenix, Arizona. The surveys announced in this notice are necessary for the management of lands administered by the agency indicated.

ADDRESSES: These plats will be available for inspection in the Arizona State Office, Bureau of Land Management, One North Central Avenue, Suite 800, Phoenix, Arizona, 85004-4427. Protests of any of these surveys should be sent to the Arizona State Director at this address.

FOR FURTHER INFORMATION CONTACT: Mark D. Morberg, Chief Cadastral Surveyor of Arizona; (602) 417-9558; mmorberg@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION:

The Gila and Salt River Meridian, Arizona

The plat, in one sheet, representing a metes-and-bounds survey in section 6, Township 20 North, Range 7 East, accepted July 22, 2021, for Group 1204, Arizona. This plat was prepared at the request of the United States Air Force.

The plat, in three sheets, representing the dependent resurvey of portions of the south, and east boundaries and a potion of the subdivisional lines, the subdivision of sections 33 and 34, the survey of the boundary of the Glen Canyon National Recreation Area, the establishment of the dividing line which crosses the Colorado river between the Grand Canyon National Park and Glen Canyon National Recreation Area and the Metes-and-bounds survey of a portion of the right-of-way of U. S. Highway No. 89A, Township 40 North, Range 7 East, accepted August 17, 2021, for Group 1205, Arizona. This plat was prepared at the request of Glen Canyon National Recreation Area.

The plat, two sheets, representing the dependent resurvey of a portion of the subdivisional lines, the subdivision of section 11, and the photogrammetric survey of a portion of the Colorado River left bank meanders along the Glen Canyon National Recreation Area boundary, partially surveyed Township 40 North, Range 8 East, accepted August 17, 2021, for Group 1205, Arizona. This plat was prepared at the request of Glen Canyon National Recreation Area.

The plat, in one sheet, representing the dependent resurvey of a portion of the south and west boundaries and a portion of the subdivisional lines, the subdivision of section 31, and a metes-and-bounds survey in section 7, Township 18 North, Range 24 East, accepted August 17, 2021, for Group 1211, Arizona. This plat was prepared at the request of the Petrified National Park.

The plat, in one sheet, representing the dependent resurvey of a portion of the subdivisional lines and the subdivision of section 7, Township 4 North, Range 2 West, accepted April 14, 2021, for Group 1199, Arizona. This plat was prepared at the request of United States Air Force.

The plat, in one sheet, representing the dependent resurvey of a portion of the north boundary of Township 12 North, Range 2 West, a portion of the subdivisional lines and the boundary of Mineral Survey Nos. 1690, 1691, 2348 and 2420, Township 12 North, Range 2 West, accepted August 17, 2021, for Group 1206, Arizona. This plat was prepared at the request of the United States Forest Service.

The plat, in two sheets, represents the dependent resurvey of a portion of the First Standard Parallel North, a portion of the east boundary, and a portion of the subdivisional lines, the subdivision of sections 1, 2 and 12, and a metes-and-bounds survey in section 2, Township 4 North, Range 3 West, accepted April 14, 2021, for Group 1199, Arizona. This plat was prepared at the request of the United States Air Force.

The plat, in one sheet, representing the dependent resurvey of a portion of the west boundary, and portions of the subdivisional lines, and the subdivision of sections 18, 19 and 30, Township 6 South, Range 4 West, accepted April 14, 2021, for Group 1210, Arizona. This plat was prepared at the request of the United States Air Force.

The plat, in two sheets, representing the dependent resurvey of a potion of the subdivisional lines, the subdivision of certain sections and the metes-and-bounds survey of the administrative boundary of Gila Bend Air Force Auxiliary Field, Township 6 South, Range 5 West, accepted April 14, 2021, for Group 1210, Arizona. This plat was prepared at the request of United States Air Force.

The plat, in one sheet, representing the dependent resurvey of a portion of the Marine Corps Air Station Yuma Martinez Lake Recreation Area boundary from Angle Point 12 to Angle Point 13, fractional Township 5 South, Range 22 West, accepted July 22, 2021, for Group 1175, Arizona. This plat was prepared at the request of the United States Marine Corps.

The plat, in one sheet, representing the dependent resurvey of a portion of the east boundary and portions of the subdivisional lines, the subdivision of sections 23 and 24 and metes-and-bounds surveys, Township 6 South, Range 19 East, accepted August 17, 2021, for Group 1208, Arizona. This plat was prepared at the request of the Bureau of Land Management.

The plat, in one sheet, representing the dependent resurvey of a portion of the west boundary and a portion of the subdivisional lines, and the subdivision of section 30, Township 6 South, Range 26 East, accepted August 17, 2021, for Group 1215, Arizona. This plat was prepared at the request of the Bureau of Land Management.

A person or party who wishes to protest against any of these surveys must file a written notice of protest within 30 calendar days from the date of this publication with the Arizona State Director, Bureau of Land Management, stating that they wish to protest.

A statement of reasons for a protest may be filed with the notice of protest to the State Director, or the statement of reasons must be filed with the State Director within 30 days after the protest is filed. Before including your address, or other personal information in your protest, please be aware that your entire protest, including your personal identifying information, may be made publicly available at any time. While you can ask us in your comment to withhold your personal identifying information from public review, we cannot guarantee that we will be able to do so.

(Authority: 43 U.S.C. Chap. 3.)

Mark Morberg,
Chief Cadastral Surveyor of Arizona.

[FR Doc. 2021-18667 Filed 8-30-21; 8:45 am]

BILLING CODE 4310-32-P